DEPARTMENT OF DEFENSE

Department of the Air Force

U.S. Air Force Broadcast of Consent Order, and Determination of Interest Level for a United Launch Alliance (ULA) Consent Order Industry Day

AGENCY: Headquarters Air Force, Deputy Under Secretary of the Air Force (Space).

ACTION: Publicize Consent Order, and Determine Level of Interest for a ULA Consent Order Industry Day.

SUMMARY: This is not a notice of solicitation issuance. The Deputy Under Secretary of the Air Force (Space), as the Compliance Officer under the Federal Trade Commission (FTC) Decision and Order (hereinafter referred to as the “Consent Order”), in the Matter of Lockheed Martin Corporation, the Boeing Company, and United Launch Alliance (ULA), L.L.C. (hereinafter referred to as the “Respondents”), Docket No. C-4188, dated May 1, 2007, is posting this announcement to publicize the Consent Order, and determine level of interest for a ULA Consent Order Industry Day.

The Consent Order: The Consent Order requires that with regard to covered Government programs, (1) ULA afford all space vehicle manufacturers non-discriminatory treatment for launch services that ULA may provide, and that (2) Lockheed Martin and Boeing, as space vehicle manufacturers, consider all qualified launch service providers on a non-discriminatory basis. The Consent Order also requires firewalls to prevent information from a space vehicle provider being shared by ULA with its Boeing or Lockheed Martin parent company. Similarly, Boeing and Lockheed Martin must have firewalls to ensure that other launch service information is not shared with ULA. The Consent Order also requires that the Department of Defense appoint a Compliance Officer to oversee compliance with the Consent Order by all three Respondents. The current Compliance Officer is the Deputy Under Secretary of the Air Force (Space), Mr. Richard McKinney. The FTC Consent Order states that the Compliance Officer “shall oversee compliance by the Respondents with the terms of this Order, and shall have the power and authority to oversee such compliance.”

Industry Day Interest: The purpose of the proposed ULA Industry Day is to inform industry of the Consent Order and its requirements, the ULA, Boeing, and Lockheed Martin compliance with the Consent Order, and the role of the Compliance Officer to oversee the Respondents' compliance with the Consent Order. During the proposed Industry Day, each of the Respondents plans to present information on its specific compliance with the Consent Order requirements. Separate discussion sessions will be available to attendees, at their discretion and request, to meet with the Compliance Officer and his Government team in private to address any questions or comments relating to the Consent Order.

DATES: If sufficient interest exists, the ULA Industry Day will be held the first quarter of 2013.

ADDRESSES: The meeting location is TBD.

Who Can Attend: Members of the aerospace industry who may do business with the Respondents and may be affected by the Consent Order, and the general public, are welcome to attend Industry Day. However for security reasons, all attendees must be United States citizens with valid government issued photo identification for admission into the facility where Industry Day will be held. Attendance at the ULA Industry Day is limited to a maximum of four representatives per organization. It is required that all persons interested in attending register online at (http://2013industryday.org/) by December 7, 2012. If you are unable to access the link you can send your contact information to alan.l.adams@aero.org, or call Mr. Adams at (310) 336-7476. You can also mail your contact information to Alan L. Adams, The Aerospace Corporation, P.O. Box 92957-M1/013, Los Angeles, CA 90009-2957.

FOR FURTHER INFORMATION CONTACT: Sarah Beth Cliatt (Compliance Division Chief), Tel: 719-556-2042; or Colonel Marc Berkstresser (Deputy Compliance Division Chief), Tel: 703-614-7842.

SUPPLEMENTARY INFORMATION: After the FTC initiated an investigation of the proposed formation of ULA by Boeing and Lockheed Martin, the FTC's Bureau of Competition issued a draft Complaint that it intended to present to the FTC for its consideration. The Complaint would have charged the Respondents with violations of Section 7 of the Clayton Act, as amended, 15 United States Code (U.S.C.) Section 18, and Section 5 of the Federal Trade Commission Act, as amended, 15 U.S.C. Section 45. The Respondents and the FTC executed an agreement containing an admission by the Respondents of the jurisdictional facts set forth in the draft complaint, and including a statement that the Respondents' signing of the Consent Agreement (1) was for settlement purposes only, (2) did not constitute an admission by the Respondents that (a) the law had been violated as alleged in the Complaint, or (b) the facts alleged in the Complaint, other than jurisdictional facts, were true. The Aerospace Corporation provides, under contract, much of the technical and cost oversight support for the Compliance Officer as specified in the Consent Order.

Henry Williams, Jr.,
Acting Air Force Federal Register Liasion Officer.

[FR Doc. 2012-27061 Filed 11-5-12; 8:45 am]

BILLING CODE 5001-10-P